INTERNATIONAL TRADE COMMISSION

[Investigation Nos. 701-TA-365-366 and 731-TA-734-735 (Fourth Review)]

Certain Pasta From Italy and Turkey

Determinations

On the basis of the record ¹ developed in the subject five-year reviews, the United States International Trade Commission (“Commission”) determines, pursuant to the Tariff Act of 1930 (“the Act”), that revocation of the countervailing duty orders and antidumping duty orders on certain pasta from Italy and Turkey would be likely to lead to continuation or recurrence of material injury to an industry in the United States within a reasonably foreseeable time.²

¹ The record is defined in sec. 207.2(f) of the Commission's Rules of Practice and Procedure (19 CFR 207.2(f)).

² Commissioner Meredith M. Broadbent dissenting with respect to the imports of certain pasta from Turkey.

Background

The Commission, pursuant to section 751(c) of the Act (19 U.S.C. 1675(c)), instituted these reviews on August 1, 2018 (83 FR 37517) and determined on November 5, 2018 that it would conduct expedited reviews (84 FR 4535, February 15, 2019).

The Commission made these determinations pursuant to section 751(c) of the Act (19 U.S.C. 1675(c)). It completed and filed its determinations in these reviews on April 4, 2019.³ The views of the Commission are contained in USITC Publication 4876 (April 2019), entitled Certain Pasta from Italy and Turkey: Investigation Nos. 701-TA-365-366 and 731-TA-734-735 (Fourth Review).

³ Due to the lapse in appropriations and ensuing cessation of Commission operations, all import injury reviews conducted under authority of Title VII of the Act accordingly have been tolled pursuant to 19 U.S.C. 1675(c)(5).

By order of the Commission.
Issued: April 4, 2019.
Lisa Barton,
Secretary to the Commission.

[FR Doc. 2019-07045 Filed 4-9-19; 8:45 am]

BILLING CODE 7020-02-P